DEPARTMENT OF ENERGY

Federal Energy Regulatory Commission

Combined Notice of Filings

Take notice that the Commission has received the following Natural Gas Pipeline Rate and Refund Report filings:

Filings Instituting Proceedings

Docket Numbers: RP13-1-000.

Applicants: KO Transmission Company.

Description: Order No. 587-V Compliance Filing to be effective 12/1/2012.

Filed Date: 10/1/12.

Accession Number: 20121001-5010.

Comments Due: 5 p.m. ET 10/15/12.

Docket Numbers: RP13-2-000.

Applicants: Panhandle Eastern Pipe Line Company, LP.

Description: Fuel Filing on 10-1-12 to be effective 11/1/2012.

Filed Date: 10/1/12.

Accession Number: 20121001-5033.

Comments Due: 5 p.m. ET 10/15/12.

Docket Numbers: RP13-3-000.

Applicants: Texas Gas Transmission, LLC.

Description: 2012 Fuel Tracker Filing to be effective 11/1/2012.

Filed Date: 10/1/12.

Accession Number: 20121001-5034.

Comments Due: 5 p.m. ET 10/15/12.

Docket Numbers: RP13-4-000.

Applicants: Trunkline Gas Company, LLC.

Description: Fuel Filing on 10-1-12 to be effective 11/1/2012.

Filed Date: 10/1/12.

Accession Number: 20121001-5035.

Comments Due: 5 p.m. ET 10/15/12.

Docket Numbers: RP13-5-000.

Applicants: Texas Gas Transmission, LLC.

Description: NAESB 587-V Compliance Filing (RM96-1-037) to be effective 12/1/2012.

Filed Date: 10/1/12.

Accession Number: 20121001-5036.

Comments Due: 5 p.m. ET 10/15/12.

Docket Numbers: RP13-6-000.

Applicants: Southwest Gas Storage Company.

Description: Fuel Filing on 10-1-2012 to be effective 11/1/2012.

Filed Date: 10/1/12.

Accession Number: 20121001-5037.

Comments Due: 5 p.m. ET 10/15/12.

Docket Numbers: RP13-7-000.

Applicants: Panhandle Eastern Pipe Line Company, LP.

Description: NAESB Version 2.0 Compliance to be effective 12/1/2012.

Filed Date: 10/1/12.

Accession Number: 20121001-5038.

Comments Due: 5 p.m. ET 10/15/12.

Docket Numbers: RP13-8-000.

Applicants: Panther Interstate Pipeline Energy, LLC.

Description: Panther Order No. 587-V Compliance Filing to be effective 12/1/2012.

Filed Date: 10/1/12.

Accession Number: 20121001-5039.

Comments Due: 5 p.m. ET 10/15/12.

Docket Numbers: RP13-9-000.

Applicants: Trunkline Gas Company, LLC.

Description: NAESB Version 2.0 Compliance to be effective 12/1/2012.

Filed Date: 10/1/12.

Accession Number: 20121001-5041.

Comments Due: 5 p.m. ET 10/15/12.

Docket Numbers: RP13-10-000.

Applicants: Gulf Crossing Pipeline Company LLC.

Description: NAESB 2.0 587-V compliance filing to be effective 11/1/2012.

Filed Date: 10/1/12.

Accession Number: 20121001-5042.

Comments Due: 5 p.m. ET 10/15/12.

Docket Numbers: RP13-11-000.

Applicants: Southwest Gas Storage Company.

Description: NAESB Version 2.0 Compliance to be effective 12/1/2012.

Filed Date: 10/1/12.

Accession Number: 20121001-5043.

Comments Due: 5 p.m. ET 10/15/12.

Docket Numbers: RP13-12-000.

Applicants: Gulf South Pipeline Company, LP.

Description: Order 587-V compliance filing (NAESB V2.0) to be effective 12/1/2012.

Filed Date: 10/1/12.

Accession Number: 20121001-5044.

Comments Due: 5 p.m. ET 10/15/12.

Docket Numbers: RP13-13-000.

Applicants: Sea Robin Pipeline Company, LLC.

Description: NAESB Version 2.0 Compliance to be effective 12/1/2012.

Filed Date: 10/1/12.

Accession Number: 20121001-5045.

Comments Due: 5 p.m. ET 10/15/12.

Docket Numbers: RP13-14-000.

Applicants: Florida Gas Transmission Company, LLC.

Description: NAESB Version 2.0 Compliance to be effective 12/1/2012.

Filed Date: 10/1/12.

Accession Number: 20121001-5046.

Comments Due: 5 p.m. ET 10/15/12.

Docket Numbers: RP13-15-000.

Applicants: Trunkline LNG Company, LLC.

Description: NAESB Version 2.0 Compliance to be effective 12/1/2012.

Filed Date: 10/1/12.

Accession Number: 20121001-5047.

Comments Due: 5 p.m. ET 10/15/12.

Docket Numbers: RP13-16-000.

Applicants: Petal Gas Storage, L.L.C.

Description: NAESB 2.0 compliance filing to be effective 12/1/2012.

Filed Date: 10/1/12.

Accession Number: 20121001-5048.

Comments Due: 5 p.m. ET 10/15/12.

Docket Numbers: RP13-17-000.

Applicants: High Island Offshore System, L.L.C.

Description: NAESB V 2.0 to be effective 12/1/2012.

Filed Date: 10/1/12.

Accession Number: 20121001-5057.

Comments Due: 5 p.m. ET 10/15/12.

Docket Numbers: RP13-18-000.

Applicants: Texas Eastern Transmission, LP.

Description: Philadelphia Lateral Negotiated Rates—CP11-508 Compliance to be effective 11/1/2012.

Filed Date: 10/1/12.

Accession Number: 20121001-5058.

Comments Due: 5 p.m. ET 10/15/12.

Docket Numbers: RP13-19-000.

Applicants: Carolina Gas Transmission Corporation.

Description: Order 587-V Compliance Filing (NAESB Vs. 2.0) to be effective 12/1/2012.

Filed Date: 10/1/12.

Accession Number: 20121001-5060.

Comments Due: 5 p.m. ET 10/15/12.

Docket Numbers: RP13-20-000.

Applicants: Texas Eastern Transmission, LP.

Description: TEAM 2012 Negotiated Rates Filing—CP11-67 Compliance to be effective 11/1/2012.

Filed Date: 10/1/12.

Accession Number: 20121001-5061.

Comments Due: 5 p.m. ET 10/15/12.

Docket Numbers: RP13-21-000.

Applicants: CenterPoint Energy Gas Transmission Comp.

Description: CEGT LLC—NAESB 2.0 Compliance Filing to be effective 12/1/2012.

Filed Date: 10/1/12.

Accession Number: 20121001-5062.

Comments Due: 5 p.m. ET 10/15/12.

Docket Numbers: RP13-24-000.

Applicants: Southern Natural Gas Company, L.L.C.

Description: Order No. 587-V Compliance to be effective 12/1/2012.

Filed Date: 10/1/12.

Accession Number: 20121001-5066.

Comments Due: 5 p.m. ET 10/15/12.

Docket Numbers: RP13-25-000.

Applicants: Southern LNG Company, L.L.C.

Description: Order No. 587-V Compliance to be effective 12/1/2012.

Filed Date: 10/1/12.

Accession Number: 20121001-5068.

Comments Due: 5 p.m. ET 10/15/12.

Docket Numbers: RP13-26-000.

Applicants: NGO Transmission, Inc.

Description: NGO Transmission—Order No. 587-V Compliance to be effective 12/1/2012.

Filed Date: 10/1/12.

Accession Number: 20121001-5073.

Comments Due: 5 p.m. ET 10/15/12.

Docket Numbers: RP13-27-000.

Applicants: MarkWest New Mexico, L.L.C.

Description: MarkWest New Mexico—Order No. 587-V Compliance to be effective 12/1/2012.

Filed Date: 10/1/12.

Accession Number: 20121001-5080.

Comments Due: 5 p.m. ET 10/15/12.

Docket Numbers: RP13-28-000.

Applicants: Clear Creek Storage Company, L.L.C.

Description: NAESB 2.0 Compliance Filing to be effective 12/1/2012.

Filed Date: 10/1/12.

Accession Number: 20121001-5085.

Comments Due: 5 p.m. ET 10/15/12.

Docket Numbers: RP13-29-000.

Applicants: MarkWest Pioneer, L.L.C.

Description: MarkWest Pioneer—Order No. 587-V Compliance to be effective 12/1/2012.

Filed Date: 10/1/12.

Accession Number: 20121001-5086.

Comments Due: 5 p.m. ET 10/15/12.

Docket Numbers: RP13-31-000.

Applicants: PostRock KPC Pipeline, LLC.

Description: PostRock KPC Pipeline, LLC—Order No. 587-V Compliance Filing to be effective 12/1/2012.

Filed Date: 10/1/12.

Accession Number: 20121001-5088.

Comments Due: 5 p.m. ET 10/15/12.

Docket Numbers: RP13-32-000.

Applicants: American Midstream (Midla), LLC.

Description: American Midstream (Midla), LLC—Order No. 587-V Compliance Filing to be effective 12/1/2012.

Filed Date: 10/1/12.

Accession Number: 20121001-5089.

Comments Due: 5 p.m. ET 10/15/12.

Docket Numbers: RP13-34-000.

Applicants: American Midstream (AlaTenn), LLC.

Description: American Midstream (AlaTenn), LLC—Order No. 587-V Compliance Filing to be effective 12/1/2012.

Filed Date: 10/1/12.

Accession Number: 20121001-5092.

Comments Due: 5 p.m. ET 10/15/12.

Docket Numbers: RP13-35-000.

Applicants: Iroquois Gas Transmission System, L.P.

Description: 10/01/12 FERC Order 587-V NAESB 2.0 to be effective 12/1/2012.

Filed Date: 10/1/12.

Accession Number: 20121001-5093.

Comments Due: 5 p.m. ET 10/15/12.

Docket Numbers: RP13-36-000.

Applicants: MoGas Pipeline LLC.

Description: MoGas NAESB Compliance Filing to be effective 12/1/2012.

Filed Date: 10/1/12.

Accession Number: 20121001-5097.

Comments Due: 5 p.m. ET 10/15/12.

Docket Numbers: RP13-39-000.

Applicants: CenterPoint Energy—Mississippi River T.

Description: NAESB Compliance Filing (Version 2.0) to be effective 12/1/2012.

Filed Date: 10/1/12.

Accession Number: 20121001-5111.

Comments Due: 5 p.m. ET 10/15/12.

Docket Numbers: RP13-40-000.

Applicants: National Grid LNG, LP.

Description: Compliance Filing Adopting NAESB Version 2.0 to be effective 12/1/2012.

Filed Date: 10/1/12.

Accession Number: 20121001-5112.

Comments Due: 5 p.m. ET 10/15/12.

Docket Numbers: RP13-43-000.

Applicants: Bluewater Gas Storage, LLC.

Description: Bluewater Gas Storage NAESB Compliance to be effective 12/1/2012.

Filed Date: 10/1/12.

Accession Number: 20121001-5120.

Comments Due: 5 p.m. ET 10/15/12.

Docket Numbers: RP13-44-000.

Applicants: SG Resources Mississippi, L.L.C.

Description: SG Resources NAESB Compliance to be effective 12/1/2012.

Filed Date: 10/1/12.

Accession Number: 20121001-5121.

Comments Due: 5 p.m. ET 10/15/12.

Docket Numbers: RP13-45-000.

Applicants: Pine Prairie Energy Center, LLC.

Description: PPEC NAESB Compliance to be effective 12/1/2012.

Filed Date: 10/1/12.

Accession Number: 20121001-5122.

Comments Due: 5 p.m. ET 10/15/12.

Docket Numbers: RP13-46-000.

Applicants: Trailblazer Pipeline Company LLC.

Description: ITS Fuel Compliance Filing to be effective 3/1/2013.

Filed Date: 10/1/12.

Accession Number: 20121001-5123.

Comments Due: 5 p.m. ET 10/15/12.

Docket Numbers: RP13-47-000.

Applicants: WBI Energy Transmission, Inc.

Description: NAESB 2.0 Compliance Filing to be effective 12/1/2012.

Filed Date: 10/1/12.

Accession Number: 20121001-5124.

Comments Due: 5 p.m. ET 10/15/12.

Docket Numbers: RP13-48-000.

Applicants: Texas Eastern Transmission, LP.

Description: Philadelphia Lateral Recourse Rate Filing—CP11-508 Compliance to be effective 11/1/2012.

Filed Date: 10/1/12.

Accession Number: 20121001-5126.

Comments Due: 5 p.m. ET 10/15/12.

Docket Numbers: RP13-49-000.

Applicants: Gulfstream Natural Gas System, L.L.C.

Description: Order 587-V Compliance Filing (NAESB Version 2.0 Standards) GNGS to be effective 12/1/2012.

Filed Date: 10/1/12.

Accession Number: 20121001-5168.

Comments Due: 5 p.m. ET 10/15/12.

Docket Numbers: RP13-50-000.

Applicants: Maritimes & Northeast Pipeline, L.L.C.

Description: Order 587-V Compliance Filing (NAESB Version 2.0 Standards) MNUS to be effective 12/1/2012.

Filed Date: 10/1/12.

Accession Number: 20121001-5170.

Comments Due: 5 p.m. ET 10/15/12.

Docket Numbers: RP13-51-000.

Applicants: Southeast Supply Header, LLC.

Description: Order 587-V Compliance Filing (NAESB Version 2.0 Standards) SESH to be effective 12/1/2012.

Filed Date: 10/1/12.

Accession Number: 20121001-5171.

Comments Due: 5 p.m. ET 10/15/12.

Docket Numbers: RP13-52-000.

Applicants: Cimarron River Pipeline, LLC.

Description: NAESB Version 2.0 Compliance Filing (Order 587-V) to be effective 12/1/2012.

Filed Date: 10/1/12.

Accession Number: 20121001-5172.

Comments Due: 5 p.m. ET 10/15/12.

Docket Numbers: RP13-53-000.

Applicants: Dauphin Island Gathering Partners.

Description: NAESB 2.0 Compliance to be effective 12/1/2012.

Filed Date: 10/1/12.

Accession Number: 20121001-5173.

Comments Due: 5 p.m. ET 10/15/12.

Docket Numbers: RP13-54-000.

Applicants: Northern Border Pipeline Company.

Description: NAESB 2.0 to be effective 12/1/2012.

Filed Date: 10/1/12.

Accession Number: 20121001-5176.

Comments Due: 5 p.m. ET 10/15/12.

Docket Numbers: RP13-55-000.

Applicants: Elba Express Company, L.L.C.

Description: Order No. 587-V Compliance to be effective 12/1/2012.

Filed Date: 10/1/12.

Accession Number: 20121001-5177.

Comments Due: 5 p.m. ET 10/15/12.

Docket Numbers: RP13-56-000.

Applicants: Bear Creek Storage Company, L.L.C.

Description: Bear Creek Baseline Tariff Filing to be effective 10/1/2012.

Filed Date: 10/1/12.

Accession Number: 20121001-5185.

Comments Due: 5 p.m. ET 10/15/12.

Docket Numbers: RP13-57-000.

Applicants: WBI Energy Transmission, Inc.

Description: Non-conforming Service Agreements—Basin Electric to be effective 11/1/2012.

Filed Date: 10/1/12.

Accession Number: 20121001-5191.

Comments Due: 5 p.m. ET 10/15/12.

Docket Numbers: RP13-58-000.

Applicants: Great Lakes Gas Transmission Limited Par.

Description: NAESB 2.0 Compliance to be effective 12/1/2012.

Filed Date: 10/1/12.

Accession Number: 20121001-5209.

Comments Due: 5 p.m. ET 10/15/12.

Docket Numbers: RP13-59-000.

Applicants: Tuscarora Gas Transmission Company.

Description: NAESB 2.0 Compliance to be effective 12/1/2012.

Filed Date: 10/1/12.

Accession Number: 20121001-5231.

Comments Due: 5 p.m. ET 10/15/12.

Docket Numbers: RP13-60-000.

Applicants: Tennessee Gas Pipeline Company, L.L.C.

Description: NAESB V2.0 Compliance to be effective 12/1/2012.

Filed Date: 10/1/12.

Accession Number: 20121001-5250.

Comments Due: 5 p.m. ET 10/15/12.

Docket Numbers: RP13-61-000.

Applicants: Dominion Transmission, Inc.

Description: DTI—NAESB Version 2.0 Compliance to be effective 12/1/2012.

Filed Date: 10/1/12.

Accession Number: 20121001-5259.

Comments Due: 5 p.m. ET 10/15/12.

Docket Numbers: RP13-62-000.

Applicants: Dominion Cove Point LNG, LP.

Description: DCP—NAESB Version 2.0 Compliance to be effective 12/1/2012.

Filed Date: 10/1/12.

Accession Number: 20121001-5261.

Comments Due: 5 p.m. ET 10/15/12.

Docket Numbers: RP13-63-000.

Applicants: WBI Energy Transmission, Inc.

Description: Annual Penalty Revenue Credits Report of WBI Energy Transmission, Inc.

Filed Date: 10/1/12.

Accession Number: 20121001-5264.

Comments Due: 5 p.m. ET 10/15/12.

Docket Numbers: RP13-64-000.

Applicants: Dominion South Pipeline Company, LP.

Description: DSP—NAESB Version 2.0 Compliance to be effective 12/1/2012.

Filed Date: 10/1/12.

Accession Number: 20121001-5265.

Comments Due: 5 p.m. ET 10/15/12.

Docket Numbers: RP13-65-000.

Applicants: Destin Pipeline Company, L.L.C.

Description: NAESB Version 2.0 Filing to be effective 12/1/2012.

Filed Date: 10/1/12.

Accession Number: 20121001-5291.

Comments Due: 5 p.m. ET 10/15/12.

Docket Numbers: RP13-66-000.

Applicants: Millennium Pipeline Company, LLC.

Description: Negotiated Rate Service Agreement—Amendment 27912 to be effective 10/1/2012.

Filed Date: 10/1/12.

Accession Number: 20121001-5296.

Comments Due: 5 p.m. ET 10/15/12.

Docket Numbers: RP13-67-000.

Applicants: WBI Energy Transmission, Inc.

Description: Non-conforming Service Agreements—Revised NSP to be effective 11/1/2012.

Filed Date: 10/1/12.

Accession Number: 20121001-5297.

Comments Due: 5 p.m. ET 10/15/12.

Docket Numbers: RP13-68-000.

Applicants: Millennium Pipeline Company, LLC.

Description: Negotiated Rate Service Agreements Contract 132614, 132617, 134761 to be effective 11/1/2012.

Filed Date: 10/1/12.

Accession Number: 20121001-5300.

Comments Due: 5 p.m. ET 10/15/12.

Docket Numbers: RP13-69-000.

Applicants: Cheyenne Plains Gas Pipeline Company, L.

Description: NAESB 2.0 Filing to be effective 12/1/2012.

Filed Date: 10/1/12.

Accession Number: 20121001-5317.

Comments Due: 5 p.m. ET 10/15/12.

Docket Numbers: RP13-70-000.

Applicants: Alliance Pipeline L.P.

Description: NAESB Version 2.0 Final to be effective 12/1/2012.

Filed Date: 10/1/12.

Accession Number: 20121001-5326.

Comments Due: 5 p.m. ET 10/15/12.

Docket Numbers: RP13-71-000.

Applicants: Colorado Interstate Gas Company, L.L.C.

Description: NAESB 2.0 Filing to be effective 12/1/2012.

Filed Date: 10/1/12.

Accession Number: 20121001-5333.

Comments Due: 5 p.m. ET 10/15/12.

Docket Numbers: RP13-72-000.

Applicants: Carolina Gas Transmission Corporation.

Description: 2012 FRQ & TDA Filing to be effective 11/1/2012.

Filed Date: 10/1/12.

Accession Number: 20121001-5336.

Comments Due: 5 p.m. ET 10/15/12.

Docket Numbers: RP13-73-000.

Applicants: Stingray Pipeline Company, L.L.C.

Description: NAESB Compliance Version 2.0, Order 587-V to be effective 12/1/2012.

Filed Date: 10/1/12.

Accession Number: 20121001-5341.

Comments Due: 5 p.m. ET 10/15/12.

Docket Numbers: RP13-75-000.

Applicants: Northern Natural Gas Company.

Description: 20121001 NAESB Version 2.0 Refile to be effective 12/1/2012.

Filed Date: 10/1/12.

Accession Number: 20121001-5352.

Comments Due: 5 p.m. ET 10/15/12.

Docket Numbers: RP13-76-000.

Applicants: Garden Banks Gas Pipeline, LLC.

Description: Order 587-V Compliance Filing to be effective 12/1/2012.

Filed Date: 10/1/12.

Accession Number: 20121001-5354.

Comments Due: 5 p.m. ET 10/15/12.

Docket Numbers: RP13-77-000.

Applicants: Cheniere Creole Trail Pipeline, L.P.

Description: Creole Trail NAESB Compliance Filing to be effective 12/1/2012.

Filed Date: 10/1/12.

Accession Number: 20121001-5356.

Comments Due: 5 p.m. ET 10/15/12.

Docket Numbers: RP13-78-000.

Applicants: Mississippi Canyon Gas Pipeline, L.L.C.

Description: Compliance with Order 587-V to be effective 12/1/2012.

Filed Date: 10/1/12.

Accession Number: 20121001-5361.

Comments Due: 5 p.m. ET 10/15/12.

Docket Numbers: RP13-79-000.

Applicants: Crossroads Pipeline Company.

Description: NAESB 2.0 to be effective 12/1/2012.

Filed Date: 10/1/12.

Accession Number: 20121001-5365.

Comments Due: 5 p.m. ET 10/15/12.

Docket Numbers: RP13-80-000.

Applicants: Nautilus Pipeline Company, L.L.C.

Description: Compliance with Order 587-V to be effective 12/1/2012.

Filed Date: 10/1/12.

Accession Number: 20121001-5367.

Comments Due: 5 p.m. ET 10/15/12.

Docket Numbers: RP13-81-000.

Applicants: Caledonia Energy Partners, L.L.C.

Description: Caledonia Change to FERC Gas Tariff to Comply with FERC Order No. 587-V to be effective 12/1/2012.

Filed Date: 10/1/12.

Accession Number: 20121001-5368.

Comments Due: 5 p.m. ET 10/15/12.

Docket Numbers: RP13-82-000.

Applicants: Texas Eastern Transmission, LP.

Description: PSEG ERT 11-01-2012 Negotiated Rate to be effective 11/1/2012.

Filed Date: 10/1/12.

Accession Number: 20121001-5369.

Comments Due: 5 p.m. ET 10/15/12.

Docket Numbers: RP13-83-000.

Applicants: Columbia Gulf Transmission Company.

Description: NAESB 2.0 to be effective 12/1/2012.

Filed Date: 10/1/12.

Accession Number: 20121001-5374.

Comments Due: 5 p.m. ET 10/15/12.

Docket Numbers: RP13-84-000.

Applicants: Ruby Pipeline, L.L.C.

Description: NAESB 2.0 Filing to be effective 12/1/2012.

Filed Date: 10/1/12.

Accession Number: 20121001-5376.

Comments Due: 5 p.m. ET 10/15/12.

Docket Numbers: RP13-85-000.

Applicants: White River Hub, LLC.

Description: NAESB 2.0 Order 587-V to be effective 12/1/2012.

Filed Date: 10/1/12.

Accession Number: 20121001-5380.

Comments Due: 5 p.m. ET 10/15/12.

Docket Numbers: RP13-86-000.

Applicants: Southern Star Central Gas Pipeline, Inc.

Description: NAESB 2.0 to be effective 12/1/2012.

Filed Date: 10/1/12.

Accession Number: 20121001-5382.

Comments Due: 5 p.m. ET 10/15/12.

Docket Numbers: RP13-87-000.

Applicants: Questar Southern Trails Pipeline Company.

Description: Order 587-V NAESB 2.0 to be effective 12/1/2012.

Filed Date: 10/1/12.

Accession Number: 20121001-5394.

Comments Due: 5 p.m. ET 10/15/12.

Docket Numbers: RP13-88-000.

Applicants: Central Kentucky Transmission Company.

Description: NAESB 2.0 to be effective 12/1/2012.

Filed Date: 10/1/12.

Accession Number: 20121001-5401.

Comments Due: 5 p.m. ET 10/15/12.

Docket Numbers: RP13-89-000.

Applicants: Questar Overthrust Pipeline Company.

Description: Order 587-V NAESB 2.0 to be effective 12/1/2012.

Filed Date: 10/1/12.

Accession Number: 20121001-5408.

Comments Due: 5 p.m. ET 10/15/12.

Docket Numbers: RP13-90-000.

Applicants: Mojave Pipeline Company, LLC.

Description: NAESB 2.0 Filing to be effective 12/1/2012.

Filed Date: 10/1/12.

Accession Number: 20121001-5413.

Comments Due: 5 p.m. ET 10/15/12.

Docket Numbers: RP13-91-000.

Applicants: Questar Pipeline Company.

Description: NAESB 2.0 Order 587-V Compliance to be effective 12/1/2012.

Filed Date: 10/1/12.

Accession Number: 20121001-5416.

Comments Due: 5 p.m. ET 10/15/12.

Docket Numbers: RP13-92-000.

Applicants: Hardy Storage Company, LLC.

Description: NAESB 2.0 to be effective 12/1/2012.

Filed Date: 10/1/12.

Accession Number: 20121001-5421.

Comments Due: 5 p.m. ET 10/15/12.

Docket Numbers: RP13-93-000.

Applicants: Freebird Gas Storage, L.L.C.

Description: Freebird Change to FERC Gas Tariff to Comply with FERC Order No. 587-V to be effective 12/1/2012.

Filed Date: 10/1/12.

Accession Number: 20121001-5423.

Comments Due: 5 p.m. ET 10/15/12.

Docket Numbers: RP13-94-000.

Applicants: Trailblazer Pipeline Company LLC.

Description: Fuel Tracker Filing October 1, 2012 to be effective 11/1/2012.

Filed Date: 10/1/12.

Accession Number: 20121001-5427.

Comments Due: 5 p.m. ET 10/15/12.

Docket Numbers: RP13-95-000.

Applicants: Wyoming Interstate Company, L.L.C..

Description: NAESB 2.0 Filing to be effective 12/1/2012.

Filed Date: 10/1/12.

Accession Number: 20121001-5435.

Comments Due: 5 p.m. ET 10/15/12.

Docket Numbers: RP13-96-000.

Applicants: Millennium Pipeline Company, LLC.

Description: NAESB 2.0 to be effective 12/1/2012

Filed Date: 10/1/12.

Accession Number: 20121001-5437.

Comments Due: 5 p.m. ET 10/15/12.

Docket Numbers: RP13-97-000.

Applicants: National Fuel Gas Supply Corporation.

Description: NAESB v2.0 (Order 587-V) to be effective 12/1/2012.

Filed Date: 10/1/12.

Accession Number: 20121001-5439.

Comments Due: 5 p.m. ET 10/15/12.

Docket Numbers: RP13-98-000.

Applicants: East Cheyenne Gas Storage, LLC.

Description: ECGS NAESB Compliance to be effective 12/1/2012.

Filed Date: 10/1/12.

Accession Number: 20121001-5440.

Comments Due: 5 p.m. ET 10/15/12.

Docket Numbers: RP13-99-000.

Applicants: Empire Pipeline, Inc.

Description: Empire NAESB v.2.0 to be effective 12/1/2012.

Filed Date: 10/1/12.

Accession Number: 20121001-5441.

Comments Due: 5 p.m. ET 10/15/12.

Docket Numbers: RP13-100-000.

Applicants: Golden Pass Pipeline LLC.

Description: Order 587-V NAESB 2.0 Compliance Filing to be effective 12/1/2012.

Filed Date: 10/1/12.

Accession Number: 20121001-5442.

Comments Due: 5 p.m. ET 10/15/12.

Docket Numbers: RP13-101-000.

Applicants: Portland Natural Gas Transmission System.

Description: NAESB 2.0 Compliance to be effective 12/1/2012.

Filed Date: 10/1/12.

Accession Number: 20121001-5443.

Comments Due: 5 p.m. ET 10/15/12.

Docket Numbers: RP13-102-000.

Applicants: Northwest Pipeline GP.

Description: NWP NAESB 2.0 Filing to be effective 12/1/2012.

Filed Date: 10/1/12.

Accession Number: 20121001-5445.

Comments Due: 5 p.m. ET 10/15/12.

Docket Numbers: RP13-103-000.

Applicants: Gas Transmission Northwest LLC.

Description: El Paso Ruby Holding Agmt to be effective 11/1/2012.

Filed Date: 10/1/12.

Accession Number: 20121001-5446.

Comments Due: 5 p.m. ET 10/15/12.

Docket Numbers: RP13-104-000.

Applicants: El Paso Natural Gas Company, L.L.C..

Description: NAESB 2.0 Filing to be effective 12/1/2012.

Filed Date: 10/1/12.

Accession Number: 20121001-5447.

Comments Due: 5 p.m. ET 10/15/12.

Docket Numbers: RP13-105-000.

Applicants: Wyoming Interstate Company, L.L.C.

Description: WIC Gas Quality—CO2 Settlement Compliance Filing to be effective 3/1/2013.

Filed Date: 10/1/12.

Accession Number: 20121001-5448.

Comments Due: 5 p.m. ET 10/15/12.

Docket Numbers: RP13-106-000.

Applicants: Young Gas Storage Company, Ltd..

Description: NAESB 2.0 Filing to be effective 12/1/2012.

Filed Date: 10/1/12.

Accession Number: 20121001-5450.

Comments Due: 5 p.m. ET 10/15/12.

Docket Numbers: RP13-107-000.

Applicants: Bison Pipeline LLC.

Description: NAESB 2.0 Compliance to be effective 12/1/2012.

Filed Date: 10/1/12.

Accession Number: 20121001-5451.

Comments Due: 5 p.m. ET 10/15/12.

Docket Numbers: RP13-108-000.

Applicants: TransColorado Gas Transmission Company L.

Description: Order No. 587-V Compliance Filing to be effective 12/1/2012.

Filed Date: 10/1/12.

Accession Number: 20121001-5452.

Comments Due: 5 p.m. ET 10/15/12.

Docket Numbers: RP13-109-000.

Applicants: ANR Pipeline Company.

Description: NAESB 2.0 Compliance to be effective 12/1/2012.

Filed Date: 10/1/12.

Accession Number: 20121001-5453.

Comments Due: 5 p.m. ET 10/15/12.

Docket Numbers: RP13-110-000.

Applicants: Discovery Gas Transmission LLC.

Description: NAESB V2.0—1st Compliance to be effective 12/1/2012.

Filed Date: 10/1/12.

Accession Number: 20121001-5454.

Comments Due: 5 p.m. ET 10/15/12.

Docket Numbers: RP13-111-000.

Applicants: North Baja Pipeline, LLC.

Description: NAESB 2.0 Compliance to be effective 12/1/2012.

Filed Date: 10/1/12.

Accession Number: 20121001-5455.

Comments Due: 5 p.m. ET 10/15/12.

Docket Numbers: RP13-112-000.

Applicants: Blue Lake Gas Storage Company.

Description: NAESB 2.0 Compliance to be effective 12/1/2012.

Filed Date: 10/1/12.

Accession Number: 20121001-5456.

Comments Due: 5 p.m. ET 10/15/12.

Docket Numbers: RP13-113-000.

Applicants: Tennessee Gas Pipeline Company, L.L.C.

Description: Volume No. 2—MGI Non-Conforming Agreement to be effective 10/1/2012.

Filed Date: 10/1/12.

Accession Number: 20121001-5457.

Comments Due: 5 p.m. ET 10/15/12.

Docket Numbers: RP13-114-000.

Applicants: Gas Transmission Northwest LLC.

Description: NAESB 2.0 Compliance to be effective 12/1/2012.

Filed Date: 10/1/12.

Accession Number: 20121001-5458.

Comments Due: 5 p.m. ET 10/15/12.

Docket Numbers: RP13-115-000.

Applicants: ANR Storage Company.

Description: NAESB 2.0 Compliance to be effective 12/1/2012.

Filed Date: 10/1/12.

Accession Number: 20121001-5460.

Comments Due: 5 p.m. ET 10/15/12.

Docket Numbers: RP13-116-000.

Applicants: MIGC LLC.

Description: NAESB V2.0 Compliance Filing to be effective 12/1/2012.

Filed Date: 10/1/12.

Accession Number: 20121001-5463.

Comments Due: 5 p.m. ET 10/15/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-960-005.

Applicants: B-R Pipeline Company.

Description: Order 587-V NAESB Version 2.0 Compliance Filing to be effective 12/1/2012.

Filed Date: 10/1/12.

Accession Number: 20121001-5285.

Comments Due: 5 p.m. ET 10/15/12.

Docket Numbers: RP11-65-001.

Applicants: Trans-Union Interstate Pipeline, L.P.

Description: Order 587-V Compliance Filing to Modify Tariff to be effective 12/1/2012.

Filed Date: 10/1/12.

Accession Number: 20121001-5174.

Comments Due: 5 p.m. ET 10/15/12.

Docket Numbers: RP12-1048-001.

Applicants: Viking Gas Transmission Company.

Description: Conforming Backhaul Agreement—GPNG.

Filed Date: 10/1/12.

Accession Number: 20121001-5444.

Comments Due: 5 p.m. ET 10/15/12.

Docket Numbers: RP12-259-001.

Applicants: USG Pipeline Company, LLC.

Description: Order 587-V NAESB Version 2.0 Compliance Filing to be effective 12/1/2012.

Filed Date: 10/1/12.

Accession Number: 20121001-5362.

Comments Due: 5 p.m. ET 10/15/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 2, 2012.
Nathaniel J. Davis, Sr.,
Deputy Secretary.

[FR Doc. 2012-24851 Filed 10-9-12; 8:45 am]

BILLING CODE 6717-01-P